DEPARTMENT OF TRANSPORTATION

Federal Aviation Administration

[Policy Statement No. ANM-115-05-001]

Installation of “No Stowage” Placards on a Surface Not Designed or Intended to be Used for Stowage

AGENCY: Federal Aviation Administration (FAA), DOT.

ACTION: Notice of final policy.

SUMMARY: The Federal Aviation Administration (FAA) announces the availability of final policy on installation of “no stowage” placards on surfaces not designed or intended to be used for stowage.

DATES: This final policy was issued by the Transport Airplane Directorate on October 28, 2004.

FOR FURTHER INFORMATION CONTACT: Michael T. Thompson, Federal Aviation Administration, Transport Airplane Directorate, Transport Standards Staff, Airframe and Cabin Safety Branch, ANM-115, 1601 Lind Avenue SW., Renton, WA 98055-4056; telephone (425) 227-1157; fax (425) 227-1232; e-mail: Michael.T.Thompson@faa.gov.

SUPPLEMENTARY INFORMATION:

Disposition of Comments

A notice of proposed policy was published in the Federal Register on March 26, 2004 (as Policy Statement No. PS-ANM100-2004-10021). One (1) commenter responded to the request for comments.

Background

It has been brought to the attention of the Transport Airplane Directorate, Transport Standards Staff that an aircraft certification office has, in some instances, required an applicant to install “No Stowage” or “No Stowage During Taxi, Takeoff and Landing” placards on some surfaces that were not designed or intended to be used for stowage. Although not designed for stowage, these surfaces could, because of their shapes and locations, accommodate the placement of articles upon them. The placards were intended to address a concern that carry-on or other articles, not on the airplane type design, could be inappropriately stowed there and, in case of an accident or severe turbulence, become injurious projectiles. The Staff investigated this practice and determined that the part 25 regulations relating to the stowage of cargo, baggage, carry-on articles, and equipment do not require the installation of these placards for surfaces such as these. Therefore, while an applicant may be encouraged to install such placards, they cannot be required to install the placards.

This policy memorandum addresses surfaces that are clearly not intended to be stowage compartments. Areas intended to be stowage compartments must meet the requirements of § 25.787.

The final policy as well as the disposition of public comments received is available on the Internet at the following address: http://www.airweb.faa.gov/rgl. If you do not have access to the Internet, you can obtain a copy of the policy by contacting the person listed under FOR FURTHER INFORMATION CONTACT.

Issued in Renton, Washington, on October 28, 2004.
Kalene C. Yanamura,
Acting Manager, Transport Airplane Directorate, Aircraft Certification Service.

[FR Doc. 04-24851 Filed 11-5-04; 8:45 am]

BILLING CODE 4910-13-M